NUCLEAR REGULATORY COMMISSION

[Docket Nos. 50-409 and 72-046; NRC-2019-0110]

In the Matter of LaCrosse Solutions, LLC; La Crosse Boiling Water Reactor

AGENCY: U.S. Nuclear Regulatory Commission.

ACTION: Direct transfer of license; extending effectiveness of order.

SUMMARY: The U.S. Nuclear Regulatory Commission (NRC) is issuing an Order to extend the effectiveness of a September 24, 2019, Order, which approved the direct transfer of Possession Only License No. DPR-45 for the La Crosse Boiling Water Reactor (LACBWR) from the current holder, LaCrosseSolutions, LLC, to Dairyland Power Cooperative and approved a conforming license amendment, for six months beyond its current September 24, 2020, expiration date.

DATES: The Order was issued on September 1, 2020 and was effective upon issuance.

ADDRESSES: Please refer to Docket ID NRC-2019-0110 when contacting the NRC about the availability of information regarding this document. You may obtain publicly-available information related to this document using any of the following methods:

• Federal Rulemaking website: Go to https://www.regulations.gov and search for Docket ID NRC-2019-0110. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The Order extending the effectiveness of the approval of the transfer of license and conforming amendment is available in ADAMS under Accession No. ML20188A228.

FOR FURTHER INFORMATION CONTACT: Marlayna Vaaler Doell, Office of Nuclear Material Safety and Safeguards, U.S. Nuclear Regulatory Commission, Washington, DC 20555-0001; telephone: 301-415-3178; email: Marlayna.Doell@nrc.gov.

SUPPLEMENTARY INFORMATION: The text of the Order is attached.

Dated: September 1, 2020.
For the Nuclear Regulatory Commission.
John W. Lubinski,
Director, Office of Nuclear Material, Safety, and Safeguards.

Attachment—Order Extending the Effectiveness of the Approval of the Transfer of License and Conforming Amendment

In the Matter of LaCrosseSolutions, LLC; La Crosse Boiling Water Reactor

EA-19-077; Docket Nos. 50-409 and 72-046; License No. DPR-45

Order Extending the Effectiveness of the Approval of the Transfer of License and Conforming Amendment

I.

LaCrosseSolutions, LLC is the holder of the U.S. Nuclear Regulatory Commission (NRC, the Commission) Possession Only License No. DPR-45, with respect to the possession, maintenance, and decommissioning of the La Crosse Boiling Water Reactor (LACBWR). Operation of the LACBWR is no longer authorized under this license. The LACBWR facility is located in Vernon County, Wisconsin.

II.

By Order dated September 24, 2019 (Transfer Order), the Commission consented to the transfer of the LACBWR license to Dairyland Power Cooperative and approved a conforming license amendment in accordance with Section 50.80, “Transfer of licenses,” and Section 50.90, “Application for amendment of license, construction permit, or early site permit,” of Title 10 of the Code of Federal Regulations (10 CFR). By its terms, the Transfer Order becomes null and void if the license transfer is not completed within 1 year unless, upon application and for good cause shown, the Commission extends the Transfer Order's September 24, 2020, expiration date.

III.

By letter dated June 24, 2020, LaCrosseSolutions, LLC submitted a request to extend the effectiveness of the Transfer Order by 6 months, until March 24, 2021. As stated in the letter, the LACBWR Final Status Survey Final Reports (FSSRs) and their associated Release Records are currently under review by the NRC staff. In addition, the NRC staff notes that NRC requests for additional information (RAIs) are being addressed by LaCrosseSolutions, LLC. Based on the current status of the NRC review and the expected timeframe for receiving finalized RAI responses, it is anticipated that additional time will be needed to address questions or potential issues identified by the NRC staff during its review of the LACBWR FSSRs. The letter also stated that the extension would allow adequate time for research and response development by LaCrosseSolutions, LLC, regarding possible additional questions or potential issues, and for the NRC staff to assess the responses provided by LaCrosseSolutions, LLC and make a final determination regarding the release of the majority of the LACBWR site for unrestricted use. Moreover, the letter discussed the possibility of delays due to the Coronavirus Disease 2019 public health emergency.

Based on the above, the NRC staff has determined that LaCrosseSolutions, LLC has shown good cause for extending the effectiveness of the Transfer Order by 6 months, as requested.

IV.

Accordingly, pursuant to Sections 161b, 161i, and 184 of the Atomic Energy Act of 1954, as amended, 42 U.S.C. Sections 2201(b), 2201(i), and 2234; and 10 CFR 50.80, It is hereby ordered that the expiration date of the Transfer Order of September 24, 2019, is extended until March 24, 2021. If the subject license transfer from LaCrosseSolutions, LLC to Dairyland Power Cooperative is not completed by March 24, 2021, the Transfer Order shall become null and void; provided, however, that upon written application and for good cause shown, such date may be extended by order.

This Order is effective upon issuance.

For further details with respect to this Order, see the extension request dated June 24, 2020, which is available electronically through ADAMS in the NRC Library at https://www.nrc.gov/reading-rm/adams.html under Accession No. ML20188A228. Persons who encounter problems with ADAMS should contact the NRC's Public Document Room reference staff by telephone at 1-800-397-4209 or 301-415-4737 or by email to pdr.resource@nrc.gov.

Dated this 1st day of September 2020.

For the Nuclear Regulatory Commission.

John W. Lubinski,

Director, Office of Nuclear Material Safety and Safeguards.

[FR Doc. 2020-19736 Filed 9-4-20; 8:45 am]

BILLING CODE 7590-01-P